DEPARTMENT OF LABOR

Occupational Safety and Health Administration

[Docket No. ICR 1218-0209 (2006)]

Proposed Information Collection Request Submitted for Public Comment and Recommendations; OSHA Data Initiative (1218-0209)

ACTION: Request for public comment.

SUMMARY: The Department of Labor, as part of its continuing effort to reduce paperwork and respondent (i.e., employer) burden, conducts a preclearance consultation program to provide the general public and Federal agencies with an opportunity to comment on proposed and/or continuing collections of information in accordance with the Paperwork Reduction Act of 1995 (PRA-95) [44 U.S.C. 3506(c)(2)(A)]. This program helps to ensure that requested data can be provided in the desired format, reporting burden (time and financial resources) is minimized, collection instruments are clearly understood, and the impact of collection requirements on respondents can be properly assessed. Currently, the Occupational Safety and Health Administration (OSHA) is soliciting comments concerning the proposed extension of the Information Collection Request (ICR) for the OSHA Data Initiative. A copy of the proposed ICR can be obtained by contacting the office listed below in the addresses section of this notice.

DATES: Written comments must be submitted to the office listed in the addresses section below on or before July 21, 2006. The Department of Labor is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technical collection techniques or other forms of information technology, e.g., permitting electronic submissions of responses.

ADDRESSES: Comments are to be submitted to the Docket Office, Docket No. ICR 1218-0209 (2006), U.S. Department of Labor, Room N-2625, 200 Constitution Ave., NW., Washington, DC 20210, telephone (202) 693-2350. Written comments limited to 10 pages or fewer may be transmitted by facsimile to (202) 693-1648.

FOR FURTHER INFORMATION CONTACT: Dave Schmidt, Office of Statistical Analysis, Occupational Safety and Health Administration, U.S. Department of Labor, Room N3644, 200 Constitution Avenue, NW., Washington, DC 20210, telephone: (202) 693-1886. Copies of the referenced Information Collection Request are available for inspection and copying in the Docket Office and will be mailed to persons who request copies by telephoning Dave Schmidt at (202) 693-1886 or Todd Owen at (202) 693-3222. For electronic copies of the OSHA Data Initiative Information Collection Request, go to OSHA's Web page at http://www.osha.gov/OCIS/Info_coll.html.

SUPPLEMENTARY INFORMATION:

I. Background: To meet many of OSHA's program needs, OSHA is proposing to continue its collection of occupational injury and illness data and information on the number of workers employed and the number of hours worked from establishments in portions of the private sector and from some state and local government agencies. OSHA will collect the data on an annual basis from up to 100,000 employers already required to create and maintain records pursuant to 29 CFR Part 1904. These data will allow OSHA to calculate occupational injury and illness rates and to focus its efforts on individual workplaces with ongoing serious safety and health problems. Successful implementation of this data collection is critical to OSHA's outreach and enforcement efforts and the data requirements tied to the Government Performance and Results Act (GPRA).

II. Current Actions: This notice requests public comment on an extension of the current OMB approval of the paperwork requirements for the OSHA Data Inititative system.

Type of Review: Extensions of currently approved information collection requirements.

Agency: Occupational Safety and Health Administration.

Title: OSHA Data Initiative.

OMB Number: 1218-0209.

Agency Number: ICR 1218-0209 (2006).

Affected Public: Business or other for-profits, Farms, and State, Local and Tribal Government.

Cite/Reference/Form/etc.: OSHA Form 196A and OSHA Form 196B.

Number of Respondents: 100,000.

Frequency: Annually.

Average Time Per Response: 10 minutes.

Estimated Total Burden Hours: 16,000 hours.

Estimated Cost: $368,341.

III. Public Participation—Submission Of Comments On This Notice and Internet Access To Comments And Submissions. You may submit comments and supporting materials in response to this notice by (1) Hard copy, (2) FAX transmission (facsimile), or (3) electronically through the OSHA Web page. Because of security-related problems, there may be a significant delay in the receipt of comments by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Web page are available at http://www.OSHA.gov. Contact the Docket Office for information about materials not available through the OSHA Web page and for assistance using the Web page to locate docket submissions.

Comments submitted in response to this comment request will be summarized and/or included in the request for Office of Management and Budget approval of the Information Collection Request; they will also become a matter of public record. Therefore, private information should not be submitted.

IV. Authority and Signature: Edwin G. Foulke, Jr., Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on May 16, 2006.
Edwin G. Foulke, Jr.,
Assistant Secretary of Labor.

[FR Doc. 06-4704 Filed 5-19-06; 8:45 am]

BILLING CODE 4510-26-M